ENVIRONMENTAL PROTECTION AGENCY

40 CFR Part 52

[CA 287-0455; FRL-7665-9]

Withdrawal of Direct Final Rule Revising the California State Implementation Plan, South Coast Air Quality Management District

AGENCY: Environmental Protection Agency (EPA).

ACTION: Withdrawal of direct final rule.

SUMMARY: On March 22, 2004 (69 FR 13225), EPA published a direct final approval of a revision to the California State Implementation Plan (SIP). This revision concerned South Coast Air Quality Management District (SCAQMD) Rules 1133—Composting and Related Operations—General Administrative Requirements, 1133.1—Chipping and Grinding Activities, and 1133.2—Emission Reductions from Co-Composting Operations. The direct final action was published without prior proposal because EPA anticipated no adverse comment. The direct final rule stated that if adverse comments were received by April 21, 2004, EPA would publish a timely withdrawal in the Federal Register. EPA received timely adverse comments and, therefore, is withdrawing the direct final approval. EPA will address the comments in a subsequent final action based on the parallel proposal also published on March 22, 2004 (69 FR 13272). As stated in the parallel proposal, EPA will not institute a second comment period on this action.

DATES: Effective Date: The direct final rule published on March 22, 2004, at 69 FR 13225 is withdrawn as of May 21, 2004.

FOR FURTHER INFORMATION CONTACT: Jerald S. Wamsley, EPA Region IX, at either (415) 947-4111, or wamsley.jerry@epa.gov.

List of Subjects in 40 CFR Part 52

Environmental protection, Air pollution control, Intergovernmental relations, Ozone, Particulate matter, Reporting and recordkeeping requirements, Volatile organic compounds.

Dated: May 7, 2004.
Laura Yoshii,
Acting Regional Administrator, Region IX.

Accordingly, the amendment to 40 CFR 52.220, published in the Federal Register on March 22, 2004 (69 FR 13227), which was to become effective on May 21, 2004, is withdrawn.

[FR Doc. 04-11555 Filed 5-20-04; 8:45 am]

BILLING CODE 6560-50-P